DEPARTMENT OF STATE

[Public Notice 8207]

Department of State FY11 Service Contract Inventory

AGENCY: Department of State.

ACTION: Notice of the release of the Department of State FY11 Service Contract Inventory.

SUMMARY: The Department of State has publically released its Service Contract Inventory for FY12 and its analysis of the FY11 inventory. They are available here: http://csm.state.gov/content.asp?content_id=135&menu_id=71.

Section 743 of Division C of the FY 2010 Consolidated Appropriations Act, Public Law 111-117, requires Department of State, and other civilian agencies, to submit an annual inventory of service contracts. A service contract inventory is a tool to assess an agency in its ability to contract services in support of its mission and operation and whether the contractors' skills are being utilized in an appropriate manner.

DATES: The FY12 inventory and FY11 analysis is available on the Department's Web site as of February 22, 2013.

FOR FURTHER INFORMATION CONTACT: Carla Linder, Director (Acting), A/CSM, 703-875-5114, LinderCE@state.gov.

Dated: February 22, 2013.
Carla E. Linder,
Director (Acting), A/CSM, Department of State.

[FR Doc. 2013-04716 Filed 2-27-13; 8:45 am]

BILLING CODE 4710-24-P